DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (Pub. L. 92-463), the Agency for Toxic Substances and Disease Registry (ATSDR) announces the following subcommittee and committee meetings.

Name: Community/Tribal Subcommittee.

Times and Dates: 9 a.m.-5 p.m., November 5, 2002. 8:30 a.m.-5 p.m., November 6, 2002.

Place: Westin Peachtree Plaza Hotel, 210 Peachtree Street, Atlanta, Georgia 30303.

Status: Open to the public, limited by the available space. The meeting room accommodates approximately 50 people.

Purpose: This subcommittee brings to the Board advice, citizen input, and recommendations on community and tribal programs, practices, and policies of the Agency.

Matters to be Discussed: Agenda items include a presentation on ATSDR's role in public health and disease prevention in Brownfields; update on Chemical Mixtures Guidance Document; discussion on ATSDR's marketing and outreach activities; discussion on community involvement in ATSDR's Public Health Assessment Process; presentation on cumulative risks and impacts in preparation for the joint CTS and National Environmental Justice Advisory Council workgroups; update on the CTS Evaluation Process; discussion and a presentation by Indian Health Services (IHS) on efforts to link ATSDR's Pediatric Environmental Health Specialty Units and IHS to analyze health trends in Native Americans.

Name: Board of Scientific Counselors, ATSDR.

Times and Dates: 8:30 a.m.-4:30 p.m., November 7, 2002. 8:30 a.m.-12:30 p.m., November 8, 2002.

Place: Westin Peachtree Plaza Hotel, 210 Peachtree Street, Atlanta, Georgia 30303.

Status: Open to the public, limited by the available space. The meeting room accommodates approximately 50 people.

Purpose: The Board of Scientific Counselors, ATSDR, advises the Secretary; the Assistant Secretary for Health; and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters to be Discussed: Agenda items will include a review of Action Items; Agency updates; updates on Environmental and Health Tracking; update on Libby and the World Trade Center registries; discussion on National Vermiculite Response; discussion on ATSDR and Indian Health Service involvements in Environmental Health; review of the ATSDR Public Health Guidance Manual; update on the Florida Anthrax Investigation; review of the Childhood Longitudinal Study; and a discussion on the new CDC/ATSDR peer review policy.

Written comments are welcomed and should be received by the contact person listed below prior to the opening of the meeting.

Agenda items are subject to change as priorities dictate.

Contact Person for More Information: Robert Spengler, Sc.D., Executive Secretary, BSC, ATSDR, M/S E-28, 1600 Clifton Road, NE, Atlanta, Georgia 30333, telephone 404/498-0003.

The Director, Management Analysis and Services Office, has been delegated the authority to sign Federal Register notices pertaining to announcements of meetings and other committee management activities, for both the Centers for Disease Control and Prevention and the Agency for Toxic Substances and Disease Registry.

Dated: October 8, 2002.
Burma Burch,
Acting Director, Management Analysis and Services Office, Centers for Disease Control and Prevention.

[FR Doc. 02-26070 Filed 10-11-02; 8:45 am]

BILLING CODE 4163-70-P